DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, the National Agricultural Statistics Service (NASS) announces a meeting of the Advisory Committee on Agriculture Statistics.

DATES: The Committee meeting will be held from 8 a.m. to 5 p.m. on Tuesday, February 24, 2009, and from 8 a.m. to 12:30 p.m. on Wednesday, February 25, 2009. There will be an opportunity for public questions and comments at 9:30 a.m. on February 25, 2009.

ADDRESSES: The Committee meeting will take place at the Crystal City Marriott at Reagan National Airport, 1999 Jefferson Davis Highway, Arlington, Virginia, 22202. Written comments may be filed before or within a reasonable time after the meeting with the contact person identified herein at: U.S. Department of Agriculture, National Agricultural Statistics Service, 1400 Independence Avenue, SW., Room 5041A, South Building, Washington, DC 20250-2000.

FOR FURTHER INFORMATION CONTACT: Joe Reilly, Executive Director, Advisory Committee on Agriculture Statistics, Telephone: 202-720-4333, Fax: 202-720-9013, or e-mail: HQ_OA@nass.usda.gov.

SUPPLEMENTARY INFORMATION: The Advisory Committee on Agriculture Statistics, which consists of 25 members appointed from 7 categories covering a broad range of agricultural disciplines and interests, has scheduled a meeting on February 24-25, 2009. The meeting will focus on the following topics: 2007 Agricultural Census Results and Issues, 2012 Agricultural Census Content, Data Enclave update, and NASS Status of Programs. The Agricultural Resource Management Survey (ARMS) will hold a Data User meeting on Wednesday, February 25, from 1:30 p.m. to 5 p.m. in the same location. The ARMS meeting is optional but open to the public.

The Committee meeting is open to the public. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated January 7, 2009, at Washington, DC.
Joseph T. Reilly,
Associate Administrator, National Agricultural Statistics Service.

[FR Doc. E9-1314 Filed 1-23-09; 8:45 am]

BILLING CODE 3410-20-P